FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
12367N | Maritime Express, Inc., 12613 Executive Drive, #700, Stafford, TX 77477 | November 30, 2002.
3813F | Page International, Inc., 109 Minus Avenue, Suite C-7, Garden City, GA 31408 | January 31, 2003.
17052N | Sec Sea & Air, Inc., 273 E. Redondo Beach Blvd., Gardena, CA 90248 | November 4, 2002.
4306NF | International Transport, Services, Inc., 18747 Sheldon Road, Cleveland, OH 44130 | November 3, 2002.
2037F | Miller & Thompson Forwarding, Inc., 1126 South 70th Street, Suite 215B, Milwaukee, WI 53214 | February 19, 2003.
15917N | Golden Jet-L.A., Inc., dba Golden Jet Freight Forwarders, 12333 S. Van Ness Avenue, Suite 201, Hawthorne, CA 90250 | January 29, 2003.
1636F | Packers Enterprises, Inc., dba Packers, Ltd., 100 Broad Avenue, Wilmington, CA 90744 | November 23, 2002.
17768N | United Shipping Services, Inc., 2121 W. Mission Road, Suite 307, Alhambra, CA 91803 | March 1, 2003.
15688N | Millennium Logistics Services, Inc., 6709 NW 84th Avenue, Miami, FL 33166 | December 2, 2002.
2274F | David K. Lindemuth Co., Inc., 154 South Spruce Avenue, South San Francisco, CA 94080 | February 11, 2003.
338F | Fred P. Gaskell Company, Inc., 821 W. 21st Street, Norfolk, VA 23517 | February 5, 2003.

Sandra L. Kusumoto,
Director, Bureau of Consumer Complaints and Licensing.

[FR Doc. 03-7291 Filed 3-26-03; 8:45 am]

BILLING CODE 6730-01-P